DEPARTMENT OF LABOR

Employment and Training Administration

[TA-W-62, 555]

Carson's Furniture, Archdale, NC; Notice of Termination of Investigation

Pursuant to Section 221 of the Trade Act of 1974, as amended, an investigation was initiated on December 11, 2007 in response to a worker petition filed on behalf of workers of Carson's Furniture, Archdale, North Carolina.

The petition regarding the investigation has been deemed invalid. Consequently, the investigation has been terminated.

Signed in Washington, DC, this 8th day of January, 2008.
Elliott S. Kushner,
Certifying Officer, Division of Trade Adjustment Assistance.

[FR Doc. E8-584 Filed 1-15-08; 8:45 am]

BILLING CODE 4510-FN-P